DEPARTMENT OF COMMERCE

International Trade Administration

[A-122-822, A-428-815]

Initiation of Antidumping Duty Changed Circumstances Reviews: Certain Corrosion-Resistant Carbon Steel Flat Products from Canada and Germany

AGENCY: Import Administration, International Trade Administration, Department of Commerce.

SUMMARY: In accordance with section 751(b) of the Tariff Act of 1930, as amended (the Act), and section 351.216(b) of the U.S. Department of Commerce's (the Department's) regulations, Eutectic Corporation (Eutectic), a U.S. importer, filed a request for a changed circumstances review of the antidumping duty (AD) orders on certain corrosion-resistant carbon steel flat products from Canada and Germany. Petitioners and domestic interested parties have affirmatively expressed a lack of interest in the continuation of the orders with respect to this product.¹ In response to this request, the Department is initiating changed circumstances reviews on certain corrosion-resistant carbon steel flat products from Canada and Germany with respect to “wear plate” (marketed as “CastoDur Diamond Plate”) as described below.

¹ Petitioners include: United States Steel Corporation (U.S. Steel) and Mittal Steel USA ISG Inc. (formerly Bethlehem Steel Corporation, Ispat Inland Steel, and LTV Steel Company, Inc.). Domestic interested parties include: Nucor Plate Group of Nucor Corporation and Ipsco Inc.

EFFECTIVE DATE: December 28, 2005.

FOR FURTHER INFORMATION CONTACT: Angelica Mendoza or Abdelali Elouaradia, AD/CVD Operations, Office 7, Import Administration, International Trade Administration, U.S. Department of Commerce, 14th Street and Constitution Ave., NW, Washington, DC 20230; telephone: (202) 482-3019 and (202) 482-1374, respectively.

SUPPLEMENTARY INFORMATION:

Background

On November 7, 2005, Eutectic, a U.S. importer, requested that the Department exclude a product commonly known as “wear plate” and marketed under the name of “CastoDur Diamond Plate.” See Eutectic's letters to the Secretary, dated November 7, 2005 (Eutectic Request Letters). Specifically, Eutectic requested that the Department exclude from the AD orders on certain corrosion-resistant carbon steel flat products from Canada and Germany, imports meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where M stands for the metal and x for the atomic ratio. An example of a common carbide would be (Cr7C3). The carbide layer will be a visually distinct layer ranging in thickness from 0.062 inch to 0.312 inch with hardness at the surface of the carbide layer in excess of 55 HRC. See Eutectic Request Letters at 1.

Additionally, Eutectic included in its request letters from petitioners and domestic interested parties attesting to their lack of interest in having this merchandise, as described above, continue to be subject to the AD orders on corrosion-resistant carbon steel flat products from Canada and Germany. See Eutectic Request Letters at Attachments 1-4. The Department contacted these parties and confirmed their expressed lack of interest for this merchandise to be subject to the AD orders. See Memorandum to the File, from Angelica L. Mendoza, Senior Case Analyst, Office 7, “Confirmation of Interested Parties' Lack of Interest for “Wear Plate” (marketed as “CastoDur Diamond Plate”) to Be Subject to the Above-Captioned Antidumping Duty Orders,” dated December 7, 2005.

Scope of the Orders

The products covered by each of these orders are corrosion-resistant carbon steel flat products (corrosion-resistant steel) from Canada and Germany, respectively. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in these orders are flat-rolled products of non-rectangular cross-section where such cross-section is achieved subsequent to the rolling process (i.e., products which have been “worked after rolling”) for example, products which have been beveled or rounded at the edges. Excluded from these orders are flat-rolled steel products either plated or coated with tin, lead, chromium, chromium oxides, both tin and lead (“terne plate”), or both chromium and chromium oxides (“tin-free steel”), whether or not painted, varnished or coated with plastics or other nonmetallic substances in addition to the metallic coating. Also excluded from these orders are clad products in straight lengths of 0.1875 inch or more in composite thickness and of a width which exceeds 150 millimeters and measures at least twice the thickness. Also excluded from these orders are certain clad stainless flat-rolled products, which are three-layered corrosion-resistant carbon steel flat-rolled products less than 4.75 millimeters in composite thickness that consist of a carbon steel flat-rolled product clad on both sides with stainless steel in a 20%-60%-20% ratio.

On September 22, 1999, the Department issued the final results of a changed circumstances review partially revoking the order with respect to certain corrosion-resistant steel from Germany.² This partial revocation applies to certain corrosion-resistant deep-drawing carbon steel strip, roll-clad on both sides with aluminum (AlSi) foils in accordance with St3 LG as to EN 10139/10140. The merchandise's chemical composition encompasses a core material of U St 23 (continuous casting) in which carbon is less than 0.08; manganese is less than 0.30; phosphorous is less than 0.20; sulfur is less than 0.015; aluminum is less than 0.01; and the cladding material is a minimum of 99% aluminum with silicon/copper/iron of less than 1%. The products are in strips with thicknesses of 0.07mm to 4.0mm (inclusive) and widths of 5mm to 800mm (inclusive). The thickness ratio of aluminum on either side of steel may range from 3%/94%/3% to 10%/80%/10%.

² See Final Results of Changed Circumstances Antidumping Duty and Countervailing Duty Reviews and Revocation of Orders in Part: Certain Corrosion-Resistant Carbon Steel Flat Products from Germany, 64 FR 51292 (September 22, 1999). The Department noted that the affirmative statement of no interest by petitioners, combined with the lack of comments from interested parties, is sufficient to warrant partial revocation.

The HTSUS item numbers are provided for convenience and Customs purposes. The written description remains dispositive.

Initiation of Changed Circumstances Reviews

Pursuant to section 751(b)(1) of the Act, the Department will conduct a changed circumstances review upon receipt of information concerning, or a request from an interested party for a review of, an AD duty order which shows changed circumstances sufficient to warrant a review of the order. As noted above, on November 7, 2005, Eutectic requested a ruling from the Department in accordance with 19 CFR 351.216(b) to exclude the “wear plate” product described above from these AD orders. Therefore, pursuant to section 751(b)(1) of the Act and 19 CFR 351.216(b), we are initiating changed circumstances reviews. Although petitioners and domestic interested parties have expressed a lack of interest in the orders with respect to the “wear plate” product in question, they did not claim that they represent substantially all of the production of the domestic like product, nor has the Department made such a determination. Therefore, the Department is not, at this time, preliminarily revoking the AD orders with respect to the product in question pursuant to 19 CFR 351.222(g)(1)(i). Interested parties are invited to comment on this initiation, or to demonstrate that the petitioners and domestic interested parties account for substantially all of the production of the domestic like product.

Public Comment

Interested parties may submit comments which the Department will take into account in the preliminary results of these reviews. The due date for filing any such comments is no later than 15 days after publication of this notice. Responses to those comments may be submitted not later than 7 days following submission of the comments. All written comments must be submitted in accordance with 19 CFR 351.303.

The Department will publish in the Federal Register a notice of preliminary results of changed circumstances reviews in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e).

This notice is published in accordance with sections 751(b)(1) and 777(i)(1) of the Act and section 351.221(b) of the Department's regulations.

Dated: December 21, 2005.
Joseph A. Spetrini,
Acting Assistant Secretary for Import Administration.

[FR Doc. E5-7983 Filed 12-27-05; 8:45 am]

BILLING CODE 3510-DS-S